DEPARTMENT OF ENERGY

Federal Energy Regulatory Commission

Combined Notice of Filings #1

Take notice that the Commission received the following electric corporate filings:

Docket Numbers: EC11-105-000.

Applicants: Long Island Solar Farm, LLC, BP Solar, LISF Solar Trust (MetLife).

Description: Application for Authorization of Disposition of Jurisdictional Facilities Under Section 203 of the Federal Power Act and Requests for Expedited Consideration and Confidential Treatment of Long Island Solar Farm, LLC, et. al.

Filed Date: 08/16/2011.

Accession Number: 20110816-5126.

Comment Date: 5 p.m. Eastern Time on Tuesday, September 6, 2011.

Take notice that the Commission received the following exempt wholesale generator filings:

Docket Numbers: EG11-118-000.

Applicants: Copper Crossing Solar LLC.

Description: Self-Certification of Exempt Wholesale Generator Status of Copper Crossing Solar LLC.

Filed Date: 08/16/2011.

Accession Number: 20110816-5138.

Comment Date: 5 p.m. Eastern Time on Tuesday, September 6, 2011.

Take notice that the Commission received the following electric rate filings:

Docket Numbers: ER08-850-002.

Applicants: New York Independent System Operator, Inc.

Description: Report/Form of New York Independent System Operator, Inc.

Filed Date: 08/16/2011.

Accession Number: 20110816-5157.

Comment Date: 5 p.m. Eastern Time on Tuesday, September 6, 2011.

Docket Numbers: ER10-2629-004.

Applicants: FirstLight Power Resources Management, LLC.

Description: FirstLight Power Resources Management, LLC submits tariff filing per: FLPRM Supplemental Record to be effective 8/16/2011.

Filed Date: 08/16/2011.

Accession Number: 20110816-5094.

Comment Date: 5 p.m. Eastern Time on Tuesday, September 6, 2011.

Docket Numbers: ER10-2636-004.

Applicants: Mt. Tom Generating Company, LLC.

Description: Mt. Tom Generating Company, LLC submits tariff filing per: Mt. Tom Supplement to be effective 8/16/2011.

Filed Date: 08/16/2011.

Accession Number: 20110816-5095.

Comment Date: 5 p.m. Eastern Time on Tuesday, September 6, 2011.

Docket Numbers: ER11-3753-000.

Applicants: People's Power & Gas, LLC

Description: Supplemental Comments of People's Power & Gas, LLC.

Filed Date: 08/16/2011.

Accession Number: 20110816-5152.

Comment Date: 5 p.m. Eastern Time on Tuesday, September 6, 2011.

Docket Numbers: ER11-3851-001.

Applicants: Northern States Power Company, a Minnesota corporation.

Description: Northern States Power Company, a Minnesota corporation submits tariff filing per 35.17(b): 2011_8-15_NSP-WPL Amend Cert of Con_311 to be effective 6/20/2011.

Filed Date: 08/15/2011.

Accession Number: 20110815-5112.

Comment Date: 5 p.m. Eastern Time on Tuesday, September 6, 2011.

Docket Numbers: ER11-3852-001.

Applicants: Northern States Power Company, a Wisconsin corporation.

Description: Northern States Power Company, a Wisconsin corporation submits tariff filing per 35.17(b): 2011-8-15_Amend_NSPW-WPL-Cert of Con to be effective 6/20/2011.

Filed Date: 08/15/2011.

Accession Number: 20110815-5119.

Comment Date: 5 p.m. Eastern Time on Tuesday, September 6, 2011.

Docket Numbers: ER11-3989-001.

Applicants: Michigan Wind 2, LLC.

Description: Michigan Wind 2, LLC submits tariff filing per 35.17(b): Amendment to Application for Market-Based Rate Authorization to be effective 9/1/2011.

Filed Date: 08/17/2011.

Accession Number: 20110817-5070.

Comment Date: 5 p.m. Eastern Time on Monday, August 29, 2011.

Docket Numbers: ER11-4318-000.

Applicants: San Diego Gas & Electric Company.

Description: San Diego Gas & Electric Company submits Transmission Owner Formula 3 Rate filing.

Filed Date: 08/15/2011.

Accession Number: 20110816-0202.

Comment Date: 5 p.m. Eastern Time on Tuesday, September 6, 2011.

Docket Numbers: ER11-4319-000.

Applicants: Midwest Independent Transmission System Operator, Inc.

Description: Midwest Independent Transmission System Operator, Inc. submits tariff filing per 35.13(a)(2)(iii: IP08 Termination to be effective 10/16/2011.

Filed Date: 08/16/2011.

Accession Number: 20110816-5096.

Comment Date: 5 p.m. Eastern Time on Tuesday, September 6, 2011.

Docket Numbers: ER11-4320-000.

Applicants: Arizona Public Service Company.

Description: Arizona Public Service Company submits tariff filing per 35.13(a)(2)(iii: Amendment to Service Agreement No. 174 to be effective 7/17/2011.

Filed Date: 08/16/2011.

Accession Number: 20110816-5136.

Comment Date: 5 p.m. Eastern Time on Tuesday, September 6, 2011.

Docket Numbers: ER11-4321-000.

Applicants: Southern California Edison Company.

Description: Southern California Edison Company submits tariff filing per 35.13(a)(2)(iii: SGIA WDT SERV AG SCE-GPS 2501 W. San Bernardino, Redlands Roof Top Solar Project to be effective 8/18/2011.

Filed Date: 08/17/2011.

Accession Number: 20110817-5000.

Comment Date: 5 p.m. Eastern Time on Wednesday, September 7, 2011.

Docket Numbers: ER11-4322-000.

Applicants: Southern California Edison Company.

Description: Southern California Edison Company submits tariff filing per 35.13(a)(2)(iii: SGIA WDT SERV AG SCE-GPS 2250 Sequoia Ave Ontario Roof Top Solar Project to be effective 8/18/2011.

Filed Date: 08/17/2011.

Accession Number: 20110817-5001.

Comment Date: 5 p.m. Eastern Time on Wednesday, September 7, 2011.

Docket Numbers: ER11-4323-000.

Applicants: Southern California Edison Company.

Description: Southern California Edison Company submits tariff filing per 35.13(a)(2)(iii: SGIA WDT SERV AG SCE-GPS 570 E. Mill St San Bernardino Roof Top Solar Project to be effective 8/18/2011.

Filed Date: 08/17/2011.

Accession Number: 20110817-5002.

Comment Date: 5 p.m. Eastern Time on Wednesday, September 7, 2011.

Docket Numbers: ER11-4324-000.

Applicants: Southern California Edison Company.

Description: Southern California Edison Company submits tariff filing per 35.13(a)(2)(iii: SGIA WDT SERV AG SCE-GPS 3800 E. Philadelphia St Ontario Roof Top Solar Project to be effective 8/18/2011.

Filed Date: 08/17/2011.

Accession Number: 20110817-5003.

Comment Date: 5 p.m. Eastern Time on Wednesday, September 7, 2011.

Docket Numbers: ER11-4325-000.

Applicants: Southern California Edison Company.

Description: Southern California Edison Company submits tariff filing per 35.13(a)(2)(iii: SGIA WDT SERV AG SCE-GPS 13550 Valley Blvd Fontana Roof Top Solar Project to be effective 8/18/2011.

Filed Date: 08/17/2011.

Accession Number: 20110817-5004.

Comment Date: 5 p.m. Eastern Time on Wednesday, September 7, 2011.

Docket Numbers: ER11-4326-000.

Applicants: Viridian Energy MD LLC.

Description: Viridian Energy MD LLC submits tariff filing per 35.12: Viridian Energy MD LLC Market Based Rate Tariff to be effective 9/15/2011.

Filed Date: 08/17/2011.

Accession Number: 20110817-5006.

Comment Date: 5 p.m. Eastern Time on Wednesday, September 7, 2011.

Docket Numbers: ER11-4327-000.

Applicants: Entergy Arkansas, Inc.

Description: Entergy Arkansas, Inc. submits tariff filing per 35.13(a)(2)(iii: Attachment T Planning Horizon Amendment to be effective 10/16/2011.

Filed Date: 08/17/2011.

Accession Number: 20110817-5088.

Comment Date: 5 p.m. Eastern Time on Wednesday, September 7, 2011.

Take notice that the Commission received the following electric securities filings:

Docket Numbers: ES11-42-000.

Applicants: Interstate Power and Light Company.

Description: Interstate Power and Light Company submits Form 523 Application for authorization to issue securities and request for waiver of competitive bidding requirements.

Filed Date: 08/17/2011.

Accession Number: 20110817-5106.

Comment Date: 5 p.m. Eastern Time on Wednesday, September 7, 2011.

Take notice that the Commission received the following electric reliability filings

Docket Numbers: RD11-10-000.

Applicants: North American Electric Reliability Corporation.

Description: Petition of the North American Electric Reliability Corporation for Approval of Proposed Reliability Standard FAC-008-3—Facility Ratings.

Filed Date: 06/15/2011.

Accession Number: 20110615-5154.

Comment Date: 5 p.m. Eastern Time on Friday, September 16, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2011.
Nathaniel J. Davis, Sr.,
Deputy Secretary.

[FR Doc. 2011-21686 Filed 8-24-11; 8:45 am]

BILLING CODE 6717-01-P